DEPARTMENT OF THE INTERIOR

Bureau of Land Management

[LLCON04000 L16100000.DP0000]

Notice of Intent To Prepare a Supplemental Environmental Impact Statement and Resource Management Plan Amendment for the Roan Plateau, CO

AGENCY: Bureau of Land Management, Interior.

ACTION: Notice of Intent.

SUMMARY: In compliance with the National Environmental Policy Act of 1969, as amended (NEPA), and the Federal Land Policy and Management Act of 1976, as amended (FLPMA), the Bureau of Land Management (BLM) Colorado intends to prepare a Supplement to the Final Environmental Impact Statement (EIS) associated with the development of the Roan Plateau Resource Management Plan (RMP) Amendment. The Roan Plateau RMP Amendment will amend two existing RMPs: the Glenwood Springs Field Office RMP and the White River Field Office RMP. The Supplemental EIS will analyze options for the management of the Roan Plateau Planning Area, including analysis of the “Community Alternative” previously presented to the BLM, consistent with the June 22, 2012, Opinion and Order of the United States District Court for the District of Colorado and Secretary Salazar's commitment to develop the public's oil and gas resources responsibly and in the right places. These and other issues relevant to the proposed Roan Plateau RMP Amendment will be identified through scoping. By this notice the BLM is announcing the beginning of the scoping process to solicit public comments and identify issues for analysis.

DATES: This notice initiates the public scoping process for the Draft Supplemental EIS, building upon the scoping previously completed for the Roan Plateau RMP Amendment. Comments on issues and planning criteria identified in this NOI may be submitted in writing until February 27, 2013. The date(s) and location(s) of any scoping meetings will be announced at least 15 days in advance through local news media, newspapers and the BLM Web site at: http://www.blm.gov/co/st/en/fo/crvfo.html. In order to be included in the scoping process, all comments must be received prior to the close of the 30-day scoping period or 30 days after the last public meeting, whichever is later. The BLM will provide additional opportunities for public participation as appropriate.

ADDRESSES: You may submit comments on issues and planning criteria related to Roan Plateau RMP Amendment by any of the following methods:

• Web Site: www.blm.gov/co/st/en/BLM_Programs/land_use_planning/rmp/roan_plateau.html.

• Email: roanplateau@blm.gov.

• Fax: 970-876-9090.

• Mail: Bureau of Land Management, Colorado River Valley Field Office, Roan Plateau Comments, 2300 River Frontage Road, Silt, CO 81652.

Documents pertinent to this proposal may be examined at the Colorado River Valley Field Office at the above address.

FOR FURTHER INFORMATION CONTACT: For further information and/or to have your name added to our mailing list, contact Steve Bennett, Field Manager, telephone 970-876-9000; see address above; email roanplateau@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Colorado intends to develop a new proposed Amendment to the Roan Plateau RMP Amendment of the Glenwood Springs and White River RMPs and to prepare the necessary NEPA analysis of environmental impacts associated with the management of the Roan Plateau Planning Area, including proposed oil and gas development on and around the Roan Plateau. This notice announces the beginning of the scoping process for the Draft Supplemental EIS, and seeks public input on issues and planning criteria identified below. The Planning Area, which is in west-central Colorado, includes approximately 73,602 acres of land (Federal surface, Federal mineral estate, or both), and is located primarily in Garfield County with a small portion in southern Rio Blanco County.

The National Defense Authorization Act for Fiscal Year 1997, Public Law 105-85 (the “Transfer Act”) effected transfer of the Roan Plateau's Naval Oil Shale Reserves 1 and 3 from the Department of Energy to the Department of the Interior. The Transfer Act directs the transferred lands to be managed in accordance with FLPMA and other laws applicable to public lands. In addition, the Transfer Act directed the Secretary to enter into leases with one or more private entities “as soon * * * as practicable” for the purpose of exploration, development, and production of petroleum.

The development of the Roan Plateau RMP Amendment began with scoping in 2000. The Draft EIS was published in November 2004. The Final EIS was published in August 2006. The BLM then issued two Records of Decision, one in June 2007 and a second, pertaining to Areas of Critical Environmental Concern, in March 2008. A lawsuit filed in July 2008 that challenged the BLM's oil and gas leasing and management decisions for the Roan Plateau resulted in a June 22, 2012, ruling by the United States District Court for the District of Colorado. The Court set aside the Plan amendment and remanded the matter to the BLM for further action in accordance with the Court's decision. In particular, the Court found that the Final EIS was deficient insofar as it (i) failed sufficiently to address the “Community Alternative” that various local governments, environmental organizations, and individual members of the public recommended; (ii) failed sufficiently to address the cumulative air quality impacts of the Plan amendment decision in conjunction with anticipated oil and gas development on private lands outside the Roan Plateau Planning Area; and (iii) failed adequately to address the issue of potential ozone impacts from proposed oil and gas development. In view of the Court's ruling and Secretary Salazar's commitment to responsibly develop oil and gas resources on the public lands in the right places and in the right ways, the BLM determined that a new proposed Plan Amendment and a supplemental analysis under NEPA are warranted. The purpose of the public scoping process is to determine relevant issues, including those described by the District Court ruling, that will influence the scope of the environmental analysis, including alternatives, and guide the planning process. At present, the BLM, together with other Federal, state and local agencies and other stakeholders, have identified the following preliminary issues for analysis: oil and gas development on and around the Roan Plateau, directional drilling from the base of the Roan Plateau, air quality impacts, the effect of critical habitat designations for endangered and threatened plants, and Greater Sage-Grouse habitat. Preliminary planning criteria include:

(1) The Roan Plateau RMP Amendment will comply with NEPA, FLPMA, the Transfer Act, and all other applicable laws, regulations, and policies;

(2) The Roan Plateau RMP Amendment will consider reasonable alternatives in accordance with regulations at 43 CFR part 1610 and 40 CFR part 1500;

(3) Decisions in the Roan Plateau RMP Amendment will only apply to public lands and the mineral estate managed by the BLM;

(4) The Roan Plateau RMP Amendment and supplementation process will follow the BLM Land Use Planning Handbook H-1601-1 and the BLM NEPA Handbook H-1790-1 where appropriate;

(5) The Roan Plateau RMP Amendment planning process will include broad-based public participation;

(6) The Roan Plateau RMP Amendment process will consider the identification and management of lands with wilderness characteristics;

(7) The Roan Plateau RMP Amendment process will include coordination with state, local, and tribal governments to ensure that BLM considers provisions of pertinent plans, seeks to resolve any inconsistencies among state, local and tribal plans, and provides ample opportunities for state, local and tribal governments to comment on the development of the Plan amendment;

(8) The Roan Plateau RMP Amendment process will rely on available inventories of the lands and resources as well as data gathered during the planning process;

(9) The Roan Plateau RMP Amendment process will follow requirements to address Greater Sage-Grouse habitat and conservation as outlined in the National Sage-Grouse Habitat Conservation Strategy;

(10) The Roan Plateau RMP Amendment process will use Geographic Information Systems and incorporate geospatial data to the extent practicable and Federal Geographic Data Committee standards and other applicable BLM data standards will be followed;

(11) The Roan Plateau RMP Amendment will incorporate and observe the principles of multiple use and sustained yield;

(12) The Roan Plateau RMP Amendment process will involve consultation with Native American tribal governments;

(13) The Roan Plateau RMP Amendment will recognize valid existing rights; and

(14) The Roan Plateau RMP Amendment and SEIS will use analysis in the Roan Plateau Final EIS to the extent possible and practicable.

You may submit comments on relevant issues and planning criteria in writing to the BLM at any public scoping meeting, or you may submit them to the BLM using one of the methods listed in the ADDRESSES section above.

The BLM will use the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, state, and local agencies, along with tribes and other stakeholders that may be interested in, or affected by, the proposed action the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed. The BLM will evaluate identified issues to be addressed in the plan, and will place them into one of three categories:

1. Issues to be resolved in the plan amendment;

2. Issues to be resolved through policy or administrative action; or

3. Issues beyond the scope of this plan amendment.

The BLM will provide an explanation in the Draft Supplemental EIS as to why an issue was placed in category two or three. The public is also encouraged to help identify any management questions and concerns that should be addressed in the plan. The BLM will work collaboratively with interested parties to identify the management decisions that are best suited to local, regional, and national needs and concerns.

The BLM will use an interdisciplinary approach to develop the Roan Plateau RMP Amendment in order to consider the variety of resource issues and concerns identified. Specialists with expertise in the following disciplines will be involved in the planning process: minerals and geology, air resources, wildlife and fisheries, rangeland management, forestry, outdoor recreation, archaeology, paleontology, lands and realty, hydrology, soils, sociology, and economics.

Authority: 40 CFR 1501.7, 43 CFR 1610.2 and 43 CFR 1610.5-5.

John Mehlhoff,
Acting BLM Colorado State Director.

[FR Doc. 2013-01698 Filed 1-25-13; 8:45 am]

BILLING CODE P